DEPARTMENT OF JUSTICE

Notice of Lodging of Consent Decree Under the Comprehensive Environmental Response, Compensation and Liability Act

In accordance with the Departmental Policy, 28 CFR 50.7, notice is hereby given that two Consent Decrees in United States v. CryoChem, Inc., C.S. Garber & Sons, Inc., Elizabeth H. Garber, Executrix of the Estate of Claude W. Garber, Russell E. Garber, Jr. and Randall J. Garber, Co-Executors of the Estate of Russell E. Garber, Sr., and Joan E. Miller, Executrix for the Estate of Kathryn Reigner (“Settling Defendants''), Civil Action No. 02-CV-746, were lodged with the United States District Court for the Eastern District of Pennsylvania on September 26, 2002. These Consent Decrees resolve claims of the United States' against the Settling Defendants under Sections 106 and 107(a) of the Comprehensive Environmental Response, Compensation and Liability Act (“CERCLA”), 42 U.S.C. 9606 and 9607(a). The Consent Decrees require the Settling Defendants to make payments in reimbursement of response costs for the CryoChem Superfund Site located in Berks County, Pennsylvania. One of the Consent Decrees is between the United States and C.S. Garber & Sons, Inc. and the Estates and requires C.S. Garber and Sons, Inc. to pay a total of $240,000, plus interest, over a period of four years. This Consent Decree also requires each of the Estates to pay $167,000 in reimbursement of response costs, for a total of $501,000. The second Consent Decree requires CryoChem, Inc. to pay $200,000 in reimbursement of response costs. The total amount to be paid by all parties under both Consent Decrees is $941,000.

The Department of Justice will accept written comments on the proposed Consent Decrees for thirty (30) days from the date of publication of this notice. Please address comments to the Assistant Attorney General, Environment and Natural Resources Division, Department of Justice, P.O. Box 7611, Ben Franklin Station, Washington, DC 20044-7611, and refer to United States v. CryoChem, Inc., C.S. Garber & Sons, Inc., Elizabeth H. Garber, Executrix of the Estate of Claude W. Garber, Russell E. Garber, Jr. and Randall J. Garber, Co-Executors of the Estate of Russell E. Garber, Sr., and Joan E. Miller, Executrix for the Estate of Kathryn Reigner, DOJ #90-11-3-06815.

Copies of the proposed Consent Decrees may be examined at the Office of the United States Attorney, Eastern District of Pennsylvania, 615 Chestnut Street, Philadelphia, PA 19106 and at EPA Region III, 1650 Arch Street, Philadelphia, PA 19103. Copies of the proposed Consent Decrees may be obtained by mail from the U.S. Department of Justice, Consent Decree Library, P.O. Box 7611, Washington, DC. 20044-7611. When requesting a copy of the proposed Consent Decrees, please enclose a check to cover the twenty-five cents per page reproduction costs payable to the “U.S. Treasury” in the amount of $7.00 for the Consent Decree between the United States and CryoChem, Inc. and in the amount of $8.25 for the Consent Decree between the United States and C.S. Garber & Sons, Inc., Elizabeth H. Garber, Executrix of the Estate of Claude W. Garber, Russell E. Garber, Jr. and Randall J. Garber, Co-Executors of the Estate of Russell E. Garber, Sr., and Joan E. Miller, Executrix for the Estate of Kathryn Reigner. Please specify which Consent Decree you are seeking and reference United States v. CryoChem, Inc., C.S. Garber & Sons, Inc., Elizabeth H. Garber, Executrix of the Estate of Claude W. Garber, Russell E. Garber, Jr., and Randall J. Garber, Co-Executors of the Estate of Russell E. Garber, Sr., and Joan E. Miller, Executrix for the Estate of Kathryn Reigner, DOJ #901-11-3-06815.

Robert Brook,
Assistant Section Chief, Environmental Enforcement Section, Environment and Natural Resources Division, Department of Justice.

[FR Doc. 02-26508 Filed 10-17-02; 8:45 am]

BILLING CODE 4410-15-M